DEPARTMENT OF DEFENSE

Department of the Navy

Notice of Availability of Government-Owned Inventions; Available for Licensing

AGENCY: Department of the Navy, DoD.

ACTION: Notice.

SUMMARY: The inventions listed below are assigned to the United States Government, as represented by the Secretary of the Navy and are available for domestic and foreign licensing by the Department of the Navy.

The following patent applications are available for licensing: Patent Application No. 62/156,092: PHOTONIC HYBRID RECEIVE ANTENNA for determining true time delay from each receiving element of an active electronically scanned array or a phased array antenna//Patent Application No. 62/141,977: RETRACTABLE SUPPRESSOR for gas generating systems such as a firearm//Patent Application No. 14/561,502: INTEGRAL MULTI-CHAMBERED VALVED SUPPRESSOR including a method of routing gas through baffled chambers and expansion chambers for reducing sound and flash//Patent Application No. 14/668,081: COMBINATION METAL OXIDE SEMI-CONDUCTOR FIELD EFFECT TRANSISTOR (MOSFET) AND JUNCTION FIELD EFFECT TRANSISTOR (JFET) OPERABLE FOR MODULATING CURRENT VOLTAGE RESPONSE OR MITIGATING ELECTROMAGNETIC OR RADIATION INTERFERENCE EFFECTS BY ALTERING CURRENT FLOW THROUGH THE MOSFETS SEMI-CONDUCTIVE CHANNEL REGION (SCR)//Patent Application No. 14/664,186: CONTROLLING CURRENT OR MITIGATING ELECTROMAGNETIC OR RADIATION INTERFERENCE EFFECTS USING MULTIPLE AND DIFFERENT SEMI-CONDUCTIVE CHANNEL REGIONS GENERATING STRUCTURES//Patent Application No. 14/724,267: APPARATUS AND METHODS FOR MODULATING CURRENT/VOLTAGE RESPONSE USING MULTIPLE SEMI-CONDUCTIVE CHANNEL REGIONS (SCR) PRODUCED FROM DIFFERENT INTEGRATED SEMICONDUCTOR STRUCTURES//Patent Application No. 14/230,486: PROCESS AND SYSTEM FOR GRAPHICAL RESOURCING DESIGN, ALLOCATION, AND/OR EXECUTION MODELING AND VALIDATION//Patent Application No. 14/873,739: APPARATUS AND METHODS FOR MODULATING CURRENT/VOLTAGE RESPONSE USING MULTIPLE SEMI-CONDUCTIVE CHANNEL REGIONS (SCR) PRODUCED FROM DIFFERENT INTEGRATED SEMICONDUCTOR STRUCTURES//Patent Application No. 14/873,680: CONTROLLING CURRENT OR MITIGATING ELECTROMAGNETIC OR RADIATION INTERFERENCE EFFECTS USING MULTIPLE AND DIFFERENT SEMI-CONDUCTIVE CHANNEL REGIONS GENERATING STRUCTURES.

ADDRESSES: Requests for copies of the patent applications cited should be directed to Naval Surface Warfare Center, Crane Div, Code OOL, Bldg 2, 300 Highway 361, Crane, IN 47522-5001.

FOR FURTHER INFORMATION CONTACT: Mr. Christopher Monsey, Naval Surface Warfare Center, Crane Div, Code OOL, Bldg 2, 300 Highway 361, Crane, IN 47522-5001, telephone 812-854-4100.

Authority: 35 U.S.C. 207, 37 CFR part 404

Dated: October 21, 2015.
N.A. Hagerty-Ford,
Commander, Judge Advocate General's Corps, U.S. Navy, Federal Register Liaison Officer.

[FR Doc. 2015-27276 Filed 10-26-15; 8:45 am]

BILLING CODE 3810-FF-P